DEPARTMENT OF VETERANS AFFAIRS

Veterans' Disability Benefits Commission

Notice of Meeting

The Department of Veterans Affairs (VA) gives notice under Public Law 92-463 (Federal Advisory Committee Act) that the Veterans' Disability Benefits Commission has scheduled a meeting for March 16-17, 2006, at the Holiday Inn National Airport, 2650 Jefferson Davis Highway, Arlington, VA. The meeting will begin each day 8:30 a.m. On March 16, the meeting will end at 4 p.m., and on March 17 the meeting will end at 3 p.m. The meeting is open to the public.

The purpose of the Commission is to carry out a study of the benefits under the laws of the United States that are provided to compensate and assist veterans and their survivors for disabilities and deaths attributable to military service.

The agenda for the meeting will include updates on the progress of the studies being conducted by the Center for Naval Analyses and the Institute of Medicine, a report of the Commission's first site visit to Florida, an overview of the Department of Labor's Veterans Employment and Training program, VA's Vocational Rehabilitation and Employment program, the Veterans Health Administration's Polytrauma Rehabilitation Centers, and the Military Seriously Injured Center as well as the Serious Injured Programs of the service branches.

Interested programs may attend and present oral statements to the Commission. Oral presentations will be limited to five minutes or less, depending on the number of participants. Interested parties may provide written comments for review by the Commission prior to the meeting, by e-mail to veterans@vetscommission.intranets.com or by mail to Mr. Ray Wilburn, Executive Director, Veterans' Disability Benefits Commission, 1101 Pennsylvania Avenue, NW., 5th Floor, Washington, DC 20004.

Dated: February 13, 2006.
By Direction of the Secretary.
E. Philip Riggin,
Committee Management Officer.

[FR Doc. 06-1514 Filed 2-16-06; 8:45 am]

BILLING CODE 8320-01-M